DEPARTMENT OF JUSTICE

Notice of Lodging of Proposed Modification to Consent Decree Under the Clean Water Act

On April 25, 2022, the Department of Justice lodged a proposed fifth modification to the consent decree with the United States District Court for the Southern District of Indiana in United States and the State of Indiana v. The City of Evansville, et al., Civil Action No. 3:09-cv-128 (S.D. Ind.).

The United States filed this lawsuit in 2009 under the Clean Water Act (“Act”). The complaint sought injunctive relief and civil penalties for violations of the Act in connection with the City of Evansville's operation of its municipal wastewater and sewer system. The allegations in the Complaint were resolved in a Consent Decree, entered on June 22, 2011, in which the City of Evansville agreed, among other things, to develop a long term Integrated Overflow Control Plan (“IOCP”) that would remedy the deficiencies in the capacity, operation and maintenance of Evansville's East Plant and West Plant, combined sewer system, and sanitary sewer system. In 2016, the Court approved a consent decree modification adopting and incorporating Evansville's finalized IOCP, which included implementation of specific wastewater treatment and capacity upgrades and capital improvement projects over a 25-year period at an estimated cost of $729 million. The proposed Fifth Modification to the Consent Decree extends interim deadlines for up to five years for bid and construction dates on four IOCP projects, including the installation of a wetland treatment system to replace Bee Slough, but does not extend the final completion deadline. The proposed modification also clarifies and replaces some design criteria and imposes some additional requirements on various other improvement projects under the decree.

The publication of this notice opens a period for public comment on the Fifth Modification to the Consent Decree. Comments should be addressed to the Assistant Attorney General, Environment and Natural Resources Division, and should refer to United States and the State of Indiana v. The City of Evansville, et al., D.J. Ref. No. 90-5-1-1-08738. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Fifth Modification to the Consent Decree may be examined and downloaded at this Justice Department website: https://www.justice.gov/enrd/consent-decrees.

We will provide a paper copy of the proposed Consent Decree upon written request and payment of reproduction costs. Please mail your request and payment to: Consent Decree Library, U.S. DOJ—ENRD, P.O. Box 7611, Washington, DC 20044-7611.

Please enclose a check or money order for $5.75 (25 cents per page reproduction cost) payable to the United States Treasury.

Patricia Mckenna,
Assistant Section Chief, Environmental Enforcement Section, Environment and Natural Resources Division.

[FR Doc. 2022-09234 Filed 4-28-22; 8:45 am]

BILLING CODE 4410-15-P